ENVIRONMENTAL PROTECTION AGENCY

[FRL-11728-01-R9]

Clean Air Act Operating Permit Program; Order on Petition for Objection to State Operating Permit for Agua Fria Generating Station

AGENCY: Environmental Protection Agency (EPA).

ACTION: Notice of final order on petition.

SUMMARY: The Environmental Protection Agency (EPA) Administrator signed an order dated January 30, 2024, granting in part and denying in part a petition dated June 1, 2023, from Sierra Club. The petition requested that the EPA object to a Clean Air Act (CAA) title V operating permit issued by the Maricopa County Air Quality Department (MCAQD) to the Salt River Project Agricultural Power District (SRP) Agua Fria Generating Station for its electricity generating station located in Glendale, Arizona.

FOR FURTHER INFORMATION CONTACT: Catherine Valladolid, EPA Region 9, (415) 947-4103, Valladolid.catherine@epa.gov. The final order and petition are available electronically at: https://www.epa.gov/title-v-operating-permits/title-v-petition-database.

SUPPLEMENTARY INFORMATION:

The EPA received a petition from Sierra Club dated June 1, 2023, requesting that the EPA object to the issuance of operating permit no. P0009346, issued by MCAQD to SRP Agua Fria Generating Station in Glendale, Arizona. On January 30, 2024, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than April 29, 2024.

Dated: February 21, 2024.
Martha Guzman Aceves,
Regional Administrator, Region IX.

[FR Doc. 2024-04113 Filed 2-27-24; 8:45 am]

BILLING CODE 6560-50-P